DEPARTMENT OF STATE

[Public Notice No. 3557]

Bureau of Political-Military Affairs; Export of C-130 Spare Parts for Indonesia

AGENCY: Department of State.

ACTION: Notice.

SUMMARY: Notice is hereby given that requests for export and retransfer of C-130 spare parts to Indonesia pursuant to Section 38 of the Arms Export Control Act will be considered on a case-by-case basis.

EFFECTIVE DATE: August 25, 2000.

FOR FURTHER INFORMATION CONTACT: Mal Zerden, Senior Analyst, Office of Defense Trade Controls, Bureau of Political-Military Affairs, Department of State, 202-663-2714.

SUPPLEMENTARY INFORMATION: On October 14, 1999, a Federal Register Notice was published (Volume 64, Number 198) that suspended all licenses and approvals to export or otherwise transfer defense articles and defense services to Indonesia, except for certain exports related to commercial communication satellites and Y2K compliance activities not for the Indonesian military. The October 14, 1999 Federal Register Notice set forth a policy of denial for new export requests except those that met the exception.

This Notice expands the exception of the items permitted to be exported published October 14, 1999 to, on a case by case basis, C-130 spare parts including when for the Government of Indonesia.

Dated: December 5, 2000.
Eric D. Newsom,
Assistant Secretary, Bureau of Political-Military Affairs.

[FR Doc. 01-2314 Filed 1-24-01; 8:45 am]

BILLING CODE 4710-15-P